DEPARTMENT OF LABOR

Employment and Training Administration

[TA-W-72,411]

Emerson Power Transmission, a Division of Emerson Electric Co., Including On-Site Leased From Challenge Industries, Manpower, Morris Protective Services, Rogan's Corners, and Adecco, Ithaca, NY; Amended Certification Regarding Eligibility To Apply for Worker Adjustment Assistance

In accordance with Section 223 of the Trade Act of 1974, as amended (“Act”), 19 U.S.C. 2273, the Department of Labor issued a Certification of Eligibility to apply for Worker Adjustment Assistance on May 13, 2010, applicable to workers of Emerson Power Transmission, a Division of Emerson Electric Co., including on-site leased workers from Challenge Industries, Manpower, Morris Protective Services and Rogan's Corners, Ithaca, New York. The notice was published in the Federal Register on May 28, 2010 (75 FR 30067).

At the request of the company official, the Department reviewed the certification for workers of the subject firm. The workers are engaged in activities related to the production of industrial chains, clutches, unmounted bearings, and mounted bearings.

The company reports that workers leased from Adecco were employed on-site at the Ithaca, New York, location of Emerson Power Transmission, a Division of Emerson Electric Co. The Department has determined that these workers were sufficiently under the control of the subject firm to be considered leased workers.

Based on these findings, the Department is amending this certification to include leased workers from Adecco working on-site at the Ithaca, New York, location of Emerson Power Transmission, a Division of Emerson Electric Co.

The amended notice applicable to TA-W-72,411 is hereby issued as follows:

All workers of Emerson Power Transmission, a division of Emerson Electric Company, including on-site leased workers from Challenge Industries, Manpower, Morris Protective Services, Rogan's Corners, and Adecco, Ithaca, New York, who became totally or partially separated from employment on or after September 21, 2008, through May 13, 2012, and all workers in the group threatened with total or partial separation from employment on date of certification through two years from the date of certification, are eligible to apply for adjustment assistance under Chapter 2 of Title II of the Trade Act of 1974, as amended.

Signed at Washington, DC, this 30th day of June 2010.
Elliott S. Kushner,
Certifying Officer, Division of Trade Adjustment Assistance.

[FR Doc. 2010-17456 Filed 7-16-10; 8:45 am]

BILLING CODE 4510-FN-P